DEPARTMENT OF COMMERCE

Foreign-Trade Zones Board

[Order No. 1549]

Approval for Expansion of Manufacturing Authority for Subzone 86D; Tesoro Refining and Marketing Company; (Oil Refinery) Anacortes, WA

Pursuant to its authority under the Foreign-Trade Zones Act of June 18, 1934, as amended (19 U.S.C. 81a-81u), the Foreign-Trade Zones Board (the Board) adopts the following Order:

Whereas, the Port of Tacoma, grantee of FTZ 86, has requested authority on behalf of Tesoro Refining and Marketing Company, to expand the scope of manufacturing activity conducted under zone procedures within Subzone 86D at the Tesoro Refining and Marketing Company oil refinery complex in Anacortes, Washington (FTZ Docket 22-2007, filed 07-10-2007);

Whereas, notice inviting public comment has been given in the Federal Register(72 FR 39051, 7/17/07); and,

Whereas, the Board adopts the findings and recommendations of the examiner's report, and finds that the requirements of the FTZ Act and the Board's regulations would be satisfied, and that approval of the application would be in the public interest if approval is subject to the conditions listed below;

Now, therefore, the Board hereby approves the expansion of the scope of activity at Subzone 86D for the manufacture of petroleum products at the Tesoro Refining and Marketing Company oil refinery complex located in Anacortes, Washington, as described in the application and the Federal Register notice, subject to the FTZ Act and the Board's regulations, including § 400.28, and further subject to the following conditions:

1. Foreign status (19 CFR 146.41, 146.42) products consumed as fuel for the refinery shall be subject to the applicable duty rate.

2. Privileged foreign status (19 CFR 146.41) shall be elected on all foreign merchandise admitted to the subzone, except that non-privileged foreign (NPF) status (19 CFR 146.42) may be elected on refinery inputs covered under HTSUS Subheadings #2709.00.10, #2709.00.20, #2710.11.25, #2710.11.45, #2710.19.05, #2710.19.10, #2710.19.45, #2710.91.00, #2710.99.05, #2710.99.10, #2710.99.16, #2710.99.21 and #2710.99.45 which are used in the production of:

—petrochemical feedstocks and refinery by-products (examiners report, Appendix “C”);

—products for export;

—and, products eligible for entry under HTSUS # 9808.00.30 and #9808.00.40 (U.S. Government purchases).

Signed at Washington, DC, this 7th day of March 2008.
David M. Spooner,
Assistant Secretary of Commerce for Import Administration, Alternate Chairman, Foreign-Trade Zones Board.
Attest:
Andrew McGilvray,
Executive Secretary.

[FR Doc. E8-5421 Filed 3-17-08; 8:45 am]

BILLING CODE 3510-DS-P